DEPARTMENT OF COMMERCE

International Trade Administration

[A-570-863]

Notice of Extension of Preliminary Results of New Shipper Antidumping Duty Review: Honey From the People's Republic of China

AGENCY: Import Administration, International Trade Administration, Department of Commerce.

DATES: Effective Dates: December 20, 2004.

FOR FURTHER INFORMATION CONTACT: Kristina Boughton at (202) 482-8173 or Bobby Wong at (202) 482-0409; AD/CVD Operations, Office 9, Import Administration, International Trade Administration, U.S. Department of Commerce, 14th Street and Constitution Avenue, NW., Washington, DC 20230.

Background

The Department of Commerce (the Department) received a timely request from Foodworld International Club Limited (Foodworld), in accordance with 19 CFR 351.214(c), for a new shipper review of the antidumping duty order on honey from the PRC, which has a December annual anniversary month and a June semiannual anniversary month. See Notice of Amended Final Determination of Sales at Less Than Fair Value and Antidumping Duty Order; Honey from the People's Republic of China, 66 FR 63670 (December 10, 2001). On July 30, 2004, the Department found that the request for review with respect to Foodworld met all of the regulatory requirements set forth in 19 CFR 351.214(b) and initiated this new shipper antidumping duty review covering the period December 1, 2003, to March 31, 2004. See Honey From The People's Republic of China: Initiation of New Shipper Antidumping Duty Review, 69 FR 47407 (August 5, 2004).

Extension of Time Limits for Preliminary Results

Section 751(a)(2)(B)(iv) of the Tariff Act of 1930, as amended (the Act), and 19 CFR 351.214(i)(1) require the Department to issue the preliminary results of a new shipper review within 180 days after the date on which the new shipper review was initiated and final results of a review within 90 days after the date on which the preliminary results were issued. The Department may, however, extend the deadline for completion of the preliminary results of a new shipper review to 300 days if it determines that the case is extraordinarily complicated (19 CFR 351.214 (i)(2)). The Department has determined that this case is extraordinarily complicated, and the preliminary results of this new shipper review cannot be completed within the statutory time limit of 180 days. Specifically, the Department needs additional time because of the complexity of some of the issues, including valuing raw honey and several packaging inputs, as well as issuing supplemental questionnaires requesting additional information. Given the issues in this case, the Department finds that this case is extraordinarily complicated, and cannot be completed within the statutory time limit.

Accordingly, the Department is extending the time limit for the completion of the preliminary results by 90 days, from January 26, 2005, to April 26, 2005, in accordance with section 751(a)(2)(B)(iv) of the Act and 19 CFR 351.214(i)(2). The final results will, in turn, be due 90 days after the date of issuance of the preliminary results, unless extended.

Dated: December 10, 2004.
Barbara E. Tillman,
Acting Deputy Assistant Secretary for Import Administration.

[FR Doc. E4-3744 Filed 12-17-04; 8:45 am]

BILLING CODE 3510-DS-P